Title 3—

The President

Proclamation 9222 of December 16, 2014

Wright Brothers Day, 2014

By the President of the United States of America

A Proclamation

The United States has always been a land of exploration and innovation. Determined to build a Nation where all things were possible, our country's Founders crossed a vast ocean and launched an improbable experiment in democracy. Early pioneers pushed west across sweeping plains. Dreamers toiled with hearts and hands to build cities, lay railroads, and power an automobile revolution. And on December 17, 1903, two brothers from Dayton, Ohio, would write their own chapter in America's long history of discovery and achievement.

After years of painstaking research and careful engineering, Orville and Wilbur Wright accomplished what was once unthinkable: the world's first powered flight. Above the sand dunes of Kitty Hawk, North Carolina, they revolutionized modern transportation and extended the reach of humanity. Their inspiring feat opened the door to more than a century of progress and helped spark a new era of economic growth and prosperity. Today, we celebrate those 12 seconds of flight that changed the course of human events, and the determination and perseverance that made that moment possible.

America has always succeeded because as a Nation, we refuse to stand still. As heirs to this proud legacy of risk takers and dreamers who imagined the world as it could be, we must constantly work to empower the next generation of inventors and entrepreneurs. That is why my Administration is investing in programs that encourage science, technology, engineering, and math education, especially for traditionally underrepresented groups. And we are fighting to ensure that innovators and startups have the resources and opportunities they need to build the future they seek.

Our Nation brought the world everything from the light bulb to the Internet, and today—in laboratories and classrooms across America—our scientists and students carry forward this tradition as they work to develop new sources of energy and code the computer programs of tomorrow. Less than seven decades after Orville and Wilbur's flying machine lifted into the air, American ingenuity brought us to Tranquility Base—and as the lunar module touched down on the surface of the Moon, it carried with it pieces of the brothers' historic airplane. Today, the Wright brothers' spirit lives on in the aspirations of a resolute people—to cure disease, walk on distant planets, and solve the biggest challenges of our time.

On Wright Brothers Day, we lift up the scientists, entrepreneurs, inventors, builders, and doers of today, and all those who reach for the future. Let us recommit to harnessing the passion and creativity of every person who works hard in America and leading the world through another century of discovery.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, BARACK OBAMA, President of the United States of America, do hereby proclaim December 17, 2014, as Wright Brothers Day.

IN WITNESS WHEREOF, I have hereunto set my hand this sixteenth day of December, in the year of our Lord two thousand fourteen, and of the Independence of the United States of America the two hundred and thirty-ninth.

[FR Doc. 2014-29992

Filed 12-18-14; 11:15 am]

Billing code 3295-F5